DEPARTMENT OF ENERGY

Federal Energy Regulatory Commission

Combined Notice of Filings

Take notice that the Commission has received the following Natural Gas Pipeline Rate and Refund Report filings:

Filings Instituting Proceedings

Docket Numbers: RP11-1711-000.

Applicants: Texas Gas Transmission, LLC.

Description: Report Filing: 2017 Cash Out Filing.

Filed Date: 1/29/18.

Accession Number: 20180129-5075.

Comments Due: 5 p.m. ET 2/12/18.

Docket Numbers: RP13-886-003.

Applicants: Southern Natural Gas Company, L.L.C.

Description: Compliance filing Petition to Amend Stipulation and Agreement under RP13-886.

Filed Date: 1/29/18.

Accession Number: 20180129-5286.

Comments Due: 5 p.m. ET 2/12/18.

Docket Numbers: RP17-197-008.

Applicants: Dominion Energy Cove Point LNG, LP.

Description: Compliance filing DECP—RP17-197 Settlement Compliance—Appendix D to be effective 3/1/2018.

Filed Date: 1/29/18.

Accession Number: 20180129-5076.

Comments Due: 5 p.m. ET 2/12/18.

Docket Numbers: RP18-365-000.

Applicants: Nautilus Pipeline Company, L.L.C.

Description: § 4(d) Rate Filing: Nautilus Section-Based Baseline Tariff to be effective 3/15/2018.

Filed Date: 1/29/18.

Accession Number: 20180129-5063.

Comments Due: 5 p.m. ET 2/12/18.

Docket Numbers: RP18-366-000.

Applicants: Algonquin Gas Transmission, LLC.

Description: § 4(d) Rate Filing: Negotiated Rates—Bay State Releases eff 2-1-2018 to be effective 2/1/2018.

Filed Date: 1/29/18.

Accession Number: 20180129-5067.

Comments Due: 5 p.m. ET 2/12/18.

Docket Numbers: RP18-367-000.

Applicants: Kinder Morgan Illinois Pipeline LLC.

Description: Penalty Revenue Crediting Report of Kinder Morgan Illinois Pipeline LLC.

Filed Date: 1/29/18.

Accession Number: 20180129-5068.

Comments Due: 5 p.m. ET 2/12/18.

Docket Numbers: RP18-368-000.

Applicants: Columbia Gulf Transmission, LLC.

Description: Compliance filing Cameron Access Rate Implementation Compliance CP15-109 to be effective 3/1/2018.

Filed Date: 1/29/18.

Accession Number: 20180129-5070.

Comments Due: 5 p.m. ET 2/12/18.

Docket Numbers: RP18-369-000.

Applicants: Sea Robin Pipeline Company, LLC.

Description: § 4(d) Rate Filing: Revise Quality Provisions to be effective 3/1/2018.

Filed Date: 1/29/18.

Accession Number: 20180129-5071.

Comments Due: 5 p.m. ET 2/12/18.

Docket Numbers: RP18-370-000.

Applicants: Kinder Morgan Illinois Pipeline LLC.

Description: § 4(d) Rate Filing: Removal of Negotiated Rate Agreement to be effective 3/1/2018.

Filed Date: 1/29/18.

Accession Number: 20180129-5087.

Comments Due: 5 p.m. ET 2/12/18.

Docket Numbers: RP18-371-000.

Applicants: Kinder Morgan Louisiana Pipeline LLC.

Description: Penalty Revenue Crediting Report of Kinder Morgan Louisiana Pipeline LLC.

Filed Date: 1/29/18.

Accession Number: 20180129-5137.

Comments Due: 5 p.m. ET 2/12/18.

Docket Numbers: RP18-372-000.

Applicants: El Paso Natural Gas Company, L.L.C.

Description: § 4(d) Rate Filing: Transportation Service Agreement Update Filing (City of Mesa) to be effective 3/1/2018.

Filed Date: 1/29/18.

Accession Number: 20180129-5252.

Comments Due: 5 p.m. ET 2/12/18.

Docket Numbers: RP18-373-000.

Applicants: Wyoming Interstate Company, L.L.C.

Description: § 4(d) Rate Filing: Fuel and L&U Update to be effective 3/1/2018.

Filed Date: 1/29/18.

Accession Number: 20180129-5253.

Comments Due: 5 p.m. ET 2/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2018.
Kimberly D. Bose,
Secretary.

[FR Doc. 2018-02243 Filed 2-2-18; 8:45 am]

BILLING CODE 6717-01-P